ENVIRONMENTAL PROTECTION AGENCY

[FRL-7633-7]

2004 RCRA National Corrective Action Conference

AGENCY: Environmental Protection Agency.

ACTION: Notice of public invitation to the 2004 RCRA National Corrective Action Conference.

SUMMARY: Notice is hereby given of public invitation to the sessions of the forthcoming Resource Conservation and Recovery Act (RCRA) Corrective Action (CA) Conference “Moving Towards Results Based—Facility Initiated Corrective Action.” This CA Conference brings together RCRA program representatives from the Environmental Protection Agency (EPA), States, Community leaders, as well as Industry representatives. This conference will explore Future Measures for Environmental Indicators for 2008 and 2020, and fostering innovations that will drive the RCRA CA Program, to name a few topics. The RCRA CA Conference continues to be a great opportunity to have a frank discussion on CA issues and to exchange information and experiences on streamlining the CA process.

DATES: The 2004 RCRA National Corrective Action Conference starts at 8 a.m. on Tuesday, May 11, 2004 and is projected to end at 12 p.m. on Wednesday, May 12, 2004.

FOR FURTHER INFORMATION CONTACT: Lael Butler, (404-562-8453), U.S. Environmental Protection Agency, Region 4, 61 Forsyth Street, SW, Code 4WD-RPB, Atlanta, GA 30303-8960.

SUPPLEMENTARY INFORMATION: Early registration is required and recommended for this Conference. To reduce costs and minimize paper, we encourage everyone to register electronically at the conference web site: Http://www.nationalcaconf.com/2004. If electronic registration is not possible, please contact Jasmine Schliesmann-Merkle, Regional Manager, TechLaw, Inc., 310 Maxwell Road, Suite 500, Alpharetta, GA 30004. Her telephone number is (770) 752-7585, ext. 105. Information on the location of the Conference, as well as the proposed agenda will be available at the Web site.

Dated: February 24, 2004.
Winston Smith,
Director, Waste Management Division.

[FR Doc. 04-5372 Filed 3-9-04; 8:45 am]

BILLING CODE 6560-50-P